FEDERAL DEPOSIT INSURANCE CORPORATION

Sunshine Act Meetings

TIME AND DATE: 10 a.m. on Thursday, May 5, 2022.

PLACE: The meeting was held in the FDIC Board Room, 550 17th St. NW, Washington, DC, and was webcast to the public.

MATTER TO BE CONSIDERED: Pursuant to the provisions of the “Government in the Sunshine Act” (5 U.S.C. 552b), notice is hereby given that the Federal Deposit Insurance Corporation's Board of Directors met in open session at 10 a.m. on Thursday, May 5, 2022 to consider the following matter:

Discussion Agenda: Memorandum and resolution re: Notice of Proposed Rulemaking on Revisions to the Community Reinvestment Act Regulations.

CONTACT PERSON FOR MORE INFORMATION: Requests for further information concerning the meeting may be directed to Debra A. Decker, Executive Secretary of the Corporation, at 202-898-8748.

Dated at Washington, DC, on May 5, 2022.
Federal Deposit Insurance Corporation.
James P. Sheesley,
Assistant Executive Secretary.

[FR Doc. 2022-10016 Filed 5-5-22; 4:15 pm]

BILLING CODE 6714-01-P